DEPARTMENT OF THE INTERIOR

Fish and Wildlife Service

[FWS-R1-ES-2008-N0273; 10120-1113-0000-C2]

Draft Recovery Plan for the Prairie Species of Western Oregon and Southwestern Washington

AGENCY: Fish and Wildlife Service, Interior.

ACTION: Notice of document availability for review and comment; correction: public comment period.

SUMMARY: The U.S. Fish and Wildlife Service announces the comment period for public review of the draft Recovery Plan for the Prairie Species of Western Oregon and Southwestern Washington. The closing date of the public comment period was erroneously omitted from the notice of availability of this draft recovery plan published on September 22, 2008. The listed species addressed in the recovery plan are the Fender's blue butterfly (Icaricia icarioides fenderi), Willamette daisy (Erigeron decumbens var. decumbens), Bradshaw's lomatium (Lomatium bradshawii), Kincaid's lupine (Lupinus sulphureus ssp. kincaidii), Nelson's checker-mallow (Sidalcea nelsoniana), and golden paintbrush (Castilleja levisecta).

DATES: Comments on the draft recovery plan must be received on or before December 22, 2008.

ADDRESSES: Copies of the draft recovery plan are available by request from the U.S. Fish and Wildlife Service, Oregon Fish and Wildlife Office, 2600 SE 98th Avenue, Suite 100, Portland, OR 97266 (phone: 503-231-6179). An electronic copy of the draft recovery plan is also available at http://endangered.fws.gov/recovery/index.html#plans.

FOR FURTHER INFORMATION CONTACT: Cat Brown, Fish and Wildlife Biologist, at the above Portland address and telephone number.

SUPPLEMENTARY INFORMATION:

Background

On September 22, 2008, we published a notice of availability of the Draft Recovery Plan for the Prairie Species of Western Oregon and Southwestern Washington (73 FR 54603). The Notice announced a public comment period on this draft recovery plan, but the closing date of the comment period was erroneously omitted from the notice of availability. We wish to clarify that the public comment period closes on December 22, 2008.

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate the time for, and cost of implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the plan. Substantive comments regarding recovery plan implementation may not necessarily result in changes to the recovery plan, but will be forwarded to appropriate Federal or other entities so that they can take these comments into account during the course of implementing recovery actions.

Public Comments Solicited

We solicit written comments on the draft recovery plan. All comments received by the date specified above will be considered prior to approval of this plan. If you wish to comment, you may submit your comments and materials concerning this recovery plan by any of these methods:

1. You may submit written comments and information by mail, facsimile or in person to the Oregon Fish and Wildlife Office at the above address (see ADDRESSES).

2. You may send comments by electronic mail (e-mail) to: FW1PrairieRecoveryPlan@fws.gov. If you submit comments by e-mail, please submit them as an ASCII file and avoid the use of special characters and any form of encryption. Please also include your name and return address in your e-mail message.

Comments and materials received, as well as supporting documentation used in preparation of the recovery plan, will be available for inspection, during normal business hours at the above Portland address (see ADDRESSES).

Public Availability of Comments

Before including your address, phone number, e-mail address, or other personal identifying information in your comment, you should be aware that your entire comment, including your personal identifying information, may be made publicly available at any time. While we will try to honor a written request to withhold your personal identifying information from public review, we cannot guarantee that we will be able to do so.

Authority: The authority for this action is section 4(f) of the Endangered Species Act, 16 U.S.C. 1533 (f).

Dated: September 29, 2008.
David J. Wesley,
Acting Regional Director, Region 1, U.S. Fish and Wildlife Service.

[FR Doc. E8-23811 Filed 10-7-08; 8:45 am]

BILLING CODE 4310-55-P